DEPARTMENT OF LABOR

Occupational Safety and Health Administration

[Docket No. ICR-1218-0103(2000)]

Ionizing Radiation; Proposed Extension of the Office of Management and Budget's (OMB) Approval of Information-Collection (Paperwork) Requirements; Comment Request

AGENCY: Occupational Safety and Health Administration, (OSHA); Labor.

ACTION: Notice of an opportunity for public comment.

SUMMARY: OSHA solicits comments concerning the extension of the information-collection requirements contained in the Ionizing radiation Standard for general industry. (29 CFR 1910.1096).

REQUEST FOR COMMENT: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before September 22, 2000.

ADDRESSES: Submit written comments to the Docket Office, Docket No. ICR-1218-0103(2000), Occupational Safety and Health Administration, U.S. Department of Labor, Room N-2625, 200 Constitution Avenue, NW., Washington, DC 20210; telephone: (202) 693-2350. Commenters may transmit written comments of 10 pages or less in length by facsimile to (202) 693-1648.

FOR FURTHER INFORMATION CONTACT: Todd R. Owen, Directorate of Policy, Occupational Safety and Health Administration, U.S. Department of Labor, Room N-3641, 200 Constitution Avenue, NW., Washington, DC 20210; telephone: (202) 693-2444. A copy of the Agency's Information-Collection Request (ICR) supporting the need for the information-collection requirements in the Ionizing radiation Standard is available for inspection and copying in the Docket Office, or you may request a mailed copy by telephoning Todd R. Owen at (202) 693-2444. For electronic copies of the ICR on the Ionizing radiation Standard, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information-collection requirements in accordance with the paperwork Reduction Act of 1995 (PRA-95) (44 U.S.C. 3506(c)(2)(A)). This program ensures that information is in the desired format, reporting burden (time and costs) is minimal, collection instruments clearly understood, and OSHA's estimate of the information burden is correct. The Occupational Safety and Health Act of the 1970 (the Act) authorizes information collection by employers as necessary or appropriate for enforcement of the act or for developing information regarding the causes and prevention of occupational injuries, illnesses, and accidents (29 U.S.C. 657).

The information-collection requirements specified in the Ionizing radiation Standard protect employees from the adverse health effects that may result from their exposure to ionizing radiation. The information-collection requirements of the Ionizing radiation Standard include employers phoning OSHA when radiation exposure incidents expose employees over radiation limits stated in the Standard; sending written reports of radiation over exposure to OSHA; maintaining employee exposure records; and furnishing exposure records to employees upon request.

II. Proposed Actions

OSHA proposes to extend OMB's approval of the collection of information (paperwork) requirements contained in the Ionizing radiation Standard. OSHA will summarize the comments submitted in response to this notice, and will include this summary in the request to OMB to extend the approval of the information-collection requirements contained in the Ionizing radiation Standard.

Type of Review: Extension of currently approved information-collection requirements.

Title: Ionizing Radiation (29 CFR 1910.1096).

OMB Number: 1218-0103.

Affected Public: Business or other for-profit; Federal government; State, Local or Tribal government.

Number of Respondents: 15,859.

Frequency: On occasion.

Total Responses: 258,745.

Average Time per Response: Varies from 5 minutes to maintain radiation-exposure records to 15 minutes for employers to prepare a written report of employee overexposure for submission to OSHA.

Estimated Total Burden Hours: 42,491.

Estimated Cost (Operation and Maintenance): $2,093,388.

III. Authority and Signature

Charles N. Jeffress, Assistant Secretary of Labor for Occupational Safety and Health, directed the preparation of this notice. The authority for this notice is the Paperwork Reduction Act of 1995 (44 U.S.C. 3506) and Secretary of Labor's Order No 6-96 (62 FR 111).

Signed at Washington, D.C., on July 18, 2000.
Charles N. Jeffress,
Assistant Secretary of Labor.

[FR Doc. 00-18627 Filed 7-21-00; 8:45 am]

BILLING CODE 4510-26-M